DEPARTMENT OF AGRICULTURE

Forest Service

Boundary Establishment for Upper White Salmon National Wild and Scenic River, Gifford Pinchot National Forest, Skamania County, Washington

AGENCY: Forest Service, Agriculture (USDA).

ACTION: Notice of availability.

SUMMARY: In accordance with Section 3(b) of the Wild and Scenic Rivers Act, the Forest Service, U.S. Department of Agriculture, is transmitting the final boundary of Upper White Salmon National Wild and Scenic River to Congress.

FOR FURTHER INFORMATION CONTACT: Information may be obtained by contacting John Ransom, Regional Land Surveyor, by telephone at 503-808-2420 or via email at john.ransom@usda.gov. Alternatively, contact Kyung Koh Willis on the Gifford Pinchot National Forest at 360-891-5177 or kyung.willis@usda.gov. Individuals who use telecommunication devices for the deaf/hard-of-hearing (TDD) may call the Federal Relay Service (FRS) at 1-800-877-8339, 24 hours a day, every day of the year, including holidays.

SUPPLEMENTARY INFORMATION: The Upper White Salmon Wild and Scenic River boundary description is available for review on the Gifford Pinchot National Forest website: https://www.fs.usda.gov/detail/giffordpinchot/landmanagement/resourcemanagement/?cid=stelprdb5172066.

Due to COVID-19 health and safety protocols to protect employees and visitors, many Forest Service offices are closed to the public. The Upper White Salmon Wild and Scenic River boundary is available for review at the following offices, if arrangements are made in advance: USDA Forest Service, Yates Building, 14th and Independence Avenues SW, Washington, DC 20024, phone—800-832-1355; Pacific Northwest Regional Office, 1220 SW Third Avenue, Portland, OR 97204, phone—503-808-2468; and Gifford Pinchot National Forest Supervisor's Office, 1501 E Evergreen Blvd., Vancouver, WA 98661, phone—360-891-5000. Please contact the appropriate office prior to arrival.

The Upper White Salmon Wild and Scenic Rivers Act (Pub. L. 109-44) of August 2, 2005 designated Upper White Salmon, Washington as a National Wild and Scenic River, to be administered by the Secretary of Agriculture. As specified by law, the boundary will not be effective until ninety days after Congress receives the transmittal.

Dated: November 26, 2021.
Sandra Watts,
Acting Associate Deputy Chief, National Forest System.

[FR Doc. 2021-26181 Filed 12-1-21; 8:45 am]

BILLING CODE 3411-15-P